DEPARTMENT OF TRANSPORTATION

National Highway Traffic Safety Administration

[NHTSA Docket No. NHTSA-2009-0167]

National Emergency Medical Services Advisory Council to the Secretary of Transportation

AGENCY: National Highway Traffic Safety Administration (NHTSA), Department of Transportation (DOT).

ACTION: National Advisory Council; Notice of Request for Applicants for Appointment/Reappointment to the National Emergency Medical Services Advisory Council (NEMSAC).

SUMMARY: NHTSA is soliciting applications for appointment or reappointment DOT's NEMSAC. The purpose of NEMSAC is to serve as a nationally recognized council of emergency medical services (EMS) representatives and consumers to provide advice and recommendations regarding EMS to DOT and its modal administration, NHTSA, and through NHTSA to the Federal Interagency Committee on EMS (FICEMS).

DATES: Applications for membership (including resume or curriculum vitae (CV), letters of recommendation, and a statement identifying the EMS sector or discipline that the applicant seeks to represent) should reach NHTSA at the address below on or before 5 p.m. EST, on Friday, November 16, 2009.

ADDRESSES: If you wish to apply for membership, your application should be submitted by:

• E-mail: NEMSAC@ems.gov.

• Fax: (202) 366-7149.

• Mail: Use only overnight mail such as UPS or FedEx to—National Highway Traffic Safety Administration, Office of Emergency Medical Services, Attn: NEMSAC, 1200 New Jersey Avenue, SE., NTI-140, Washington, DC 20590.

FOR FURTHER INFORMATION CONTACT: The Designated Federal Officer, Drew Dawson, Director, Office of Emergency Medical Services, telephone 202-366-9966; e-mail drew.dawson@dot.gov, or Dana Sade, Office of the Chief Counsel, 202-366-5251 or via e-mail at dana.sade@dot.gov, or NEMSAC@ems.gov.

SUPPLEMENTARY INFORMATION: NEMSAC is an advisory council established by DOT in accordance with the provisions of the Federal Advisory Committee Act (FACA), Public Law 92-463, as amended (5 U.S.C. App.) and DOT Order 1120.3B. NEMSAC provides information, advice, and recommendations to the Secretary via the Administrator of NHTSA, and through NHTSA to FICEMS on matters relating to all aspects of development and implementation of EMS.

In accordance with the NEMSAC Charter, a copy of which is available at https://www.fido.gov/facadatabase/docs_charters/29152_Charter%20(April%2009)-(2009-04-27-17-34-53).pdf, members should represent a cross-section of the diverse agencies, organizations, and individuals involved in EMS activities and programs in the U.S. NEMSAC consists of not more than 26 members, each of whom shall be appointed by the Secretary. Members serve in a “representatives” capacity on NEMSAC and not as Special Government Employees. Pursuant to the charter, twenty four of these members must represent the perspectives of particular sectors of the EMS community. Members will be selected for their individual expertise and to reflect a balanced representation of interests from across the EMS community, but no member will represent a specific organization.

To the extent practical, the final council membership shall assure representation from the following sectors of the EMS community:

Volunteer EMS

Fire-based (career) EMS

Private (career non-fire) EMS

Hospital-based EMS

Tribal EMS

Air Medical EMS

Local EMS service director/administrators

EMS Medical Directors

Emergency Physicians

Trauma Surgeons

Pediatric Emergency Physicians

State EMS Directors

State Highway Safety Directors

EMS Educators

Public Safety Call-taker/Dispatcher (911)

EMS Data Managers

EMS Researchers

Emergency Nurses

Hospital Administration

Public Health

Emergency Management

State Homeland Security Director

Consumers (not directly affiliated with an EMS or healthcare organization)

State or local legislative bodies (e.g. city/county councils; State legislatures)

Qualified individuals interested in serving on the NEMSAC are invited to apply for appointment or reappointment by submitting a resume or CV along with letters of recommendation to the NEMSAC Designated Federal Officer. Each applicant must identify the EMS sector or discipline that he or she seeks to represent. Current NEMSAC members whose terms are ending should notify the Designated Federal Officer of their interest in reappointment in lieu of submitting a new application, and should provide an updated resume or CV and a restatement of the current sector they represent.

The NEMSAC meets in plenary session approximately once per quarter. At least one such quarterly meeting may be held via teleconference, during which NEMSAC sets up public call-in lines to facilitate public participation. Members serve without compensation from the Federal Government; however, pursuant to the terms of the Charter, they receive travel reimbursement and per diem in accordance with applicable Federal Travel Regulations.

Issued on: October 15, 2009.
Jeffrey P. Michael,
Associate Administrator for Research and Program Development.

[FR Doc. E9-25221 Filed 10-19-09; 8:45 am]

BILLING CODE 4910-59-P